DEPARTMENT OF THE INTERIOR

Bureau of Land Management

[UTU 13113]

Opening of National Forest System Land; Utah

AGENCY: Bureau of Land Management, Interior.

ACTION: Notice of Realty Action.

SUMMARY: Public Land Order No. 7662 partially revoked Public Land Order No. 5047. This order opens the previously withdrawn land to mining.

DATES: Effective Date: May 6, 2009.

FOR FURTHER INFORMATION CONTACT: Rhonda Flynn, BLM Utah State Office, 440 West 200 South, Suite 500, Salt Lake City, Utah 84101-1345, 801-539-4132.

SUPPLEMENTARY INFORMATION: 1. Public Land Order No. 7662 (71 FR 26108 (2006)) partially revoked Public Land Order No. 5047. The United States Forest Service has decided that the previously withdrawn land, described below, can be opened to the United States mining laws:

Sawtooth National Forest

Salt Lake Meridian

T. 14 N., R. 13 W.,

Sec. 8, E½SE¼SE¼;

Sec. 9, S½S½ and S½NE¼SE¼.

The area described contains 200 acres in Box Elder County.

2. At 10 a.m. on May 6, 2009, the land described in Paragraph 1 above will be opened to location and entry under the United States mining laws, subject to valid existing rights, the provisions of existing withdrawals, other segregations of record, and the requirements of applicable law. Appropriation of any of the land described in this order under the general mining laws prior to the date and time of restoration is unauthorized. Any such attempted appropriation, including attempted adverse possession under 30 U.S.C. 38 (2000), shall vest no rights against the United States. Acts required to establish a location and to initiate a right of possession are governed by State law where not in conflict with Federal law. The Bureau of Land Management will not intervene in disputes between rival locators over possessory rights since Congress has provided for such determinations in local courts.

(Authority: 43 CFR 2091.6)

Dated: February 13, 2009.
Selma Sierra,
State Director.

[FR Doc. E9-7687 Filed 4-3-09; 8:45 am]

BILLING CODE 3410-11-P